DEPARTMENT OF TRANSPORTATION

Federal Aviation Administration

[Docket No. DOT-FAA-2013-0259]

Agency Request for Emergency Approval of an Information Collection

AGENCY: DOT/FAA.

ACTION: Notice and request for comments.

SUMMARY: In compliance with the Paperwork Reduction Act of 1995, the Department of Transportation (DOT) provides notice that it will submit an information collection request (ICR) to the Office of Management and Budget (OMB) for emergency approval of a proposed information collection. Upon receiving the requested six-month emergency approval by OMB, FAA will follow the normal PRA procedures to obtain extended approval for this proposed information collection. This collection involves data reporting by ten Unmanned Aircraft Systems (UAS) Integration Pilot Program (IPP) participants regarding their program participation. Because ten participants were selected for the program due to the significant number of applicants, DOT and FAA request emergency approval for this Information related to this ICR, including applicable supporting documentation may be obtained by contacting the UAS Integration Office at 844-359-6982 or 9-AWA-UASIPP@faa.gov.

DATES: Written comments should be submitted by June 5, 2018. Comments should be submitted as soon as possible upon publication of this notice in the Federal Register. Comments and questions should be directed to the Office of Information and Regulatory Affairs (OIRA), Attn: OST OMB Desk Officer, 725 17th Street NW; Washington, DC 20503. Comments and questions about the ICR identified below may be transmitted electronically to OIRA at oira_submissions@omb.eop.gov.

SUPPLEMENTARY INFORMATION: OMB Control Number: 2120-XXX.

Title: Unmanned Aircraft Systems (UAS) Integration Pilot Program (IPP) Data Reporting.

Form Numbers: N/A.

Type of Review: Emergency information collection request.

Expected Number of Respondents: 10 respondents who applied for and were selected to participate in the IPP.

Frequency: Flight Data: Year 1 and recurring; Economic Baseline Report: Once (year 1); Quarterly Reports: 4 times per year (years 1 and 2); Economic Annual Reports: Once (years 1 and 2); Final Report: Once (year 2).

Estimated Average Burden per Response: Flight Data Reports: 25 hours per response; Economic Baseline Report: 80 hours per response; Quarterly Reports: 40 hours per response; Economic Annual Reports: 80 hours per response; Final Report: 80 hours per response. Given the unknown level of UAS operations and sorties that will be associated with the IPP, there is limited information to estimate burden hours associated with the collection of flight data. The FAA will update burden estimates in its renewal package based on its analysis of the program's first six months of operations.

Estimated Total Annual Burden: Flight Data Report: 250 hours; Economic Baseline Report: 800 hours; Quarterly Reports: 1,600 hours; Economic Annual Reports: 800 hours; Final Report: 800 hours. Given the unknown level of UAS operations and sorties that will be associated with the IPP, there is limited information to estimate burden hours associated with the collection of flight data. The FAA will update burden estimates in its renewal package based on its analysis of the program's first six months of operations.

Abstract: Pursuant to the Presidential Memorandum for the Secretary of Transportation dated October 25, 2017, the Secretary of Transportation, with the Administrator of the FAA, was directed to establish a UAS IPP no later than 90 days after the date of the Memorandum. This program was established under the statutory authority set forth in 49 U.S.C. 106(l) and (m). The objective of the program is to test and evaluate proposed frameworks for integrating UAS into the NAS within their jurisdictions below 200 feet above ground level, with the possibility of extending that area to 400 feet above ground level, at the Secretary's discretion.

Through the IPP, the Department of Transportation (DOT) and the Federal Aviation Administration (FAA) plan to develop and innovate the safe operation of UAS technologies and their use in agriculture, commerce, emergency management and other sectors. The IPP promotes continued technological innovation and growth to ensure U.S. global leadership in the emerging UAS industry and to safely integrate UAS into the National Airspace System (NAS).

In order to accomplish these goals through the IPP, the collection of data from the ten participants is critical. Requiring the collection of information from program participants allows the agency to inform its future plans, programs, and regulations. DOT and FAA have requested emergency approval from the Office of Management and Budget in order to begin immediate data collection.

Authority: The Paperwork Reduction Act of 1995; 44 U.S.C. Chapter 35, as amended; and 49 CFR 1:48.

Issued in Washington, DC, on May 22, 2018.
Earl Lawrence,
Director, Unmanned Aircraft Systems Integration Office.

[FR Doc. 2018-11470 Filed 5-25-18; 8:45 am]

BILLING CODE 4910-13-P